DEPARTMENT OF THE INTERIOR

Bureau of Land Management

[LLIDC00000.18XL1109AF.L10100000.DF0000.241A0; 4500118259]

Notice of Public Meeting, Coeur d'Alene District Resource Advisory Council, Idaho

AGENCY: Bureau of Land Management, Interior.

ACTION: Notice of public meeting.

SUMMARY: In accordance with the Federal Land Policy and Management Act of 1976, the Federal Advisory Committee Act of 1972, and the Federal Lands Recreation Enhancement Act of 2004 (FLREA), the U.S. Department of the Interior, Bureau of Land Management (BLM) Coeur d'Alene District Resource Advisory Council (RAC) will meet as indicated below.

DATES: The Coeur d'Alene District RAC will meet Thursday, April 19, 2018. The meeting will begin at 9 a.m. and end no later than 4 p.m. The public comment period will take place from 2 p.m. to 2:30 p.m.

ADDRESSES: The Coeur d'Alene District RAC will meet at the BLM Coeur d'Alene District Office, 3815 Schreiber Way, Coeur d'Alene, ID 83815.

FOR FURTHER INFORMATION CONTACT: Suzanne Endsley, RAC Coordinator, Coeur d'Alene District, 3815 Schreiber Way, Coeur d'Alene, ID 83815; telephone: 208-769-5004; email: sendsley@blm.gov. Persons who use a telecommunications device for the deaf (TDD) may contact Ms. Endsley by calling the Federal Relay Service (FRS) at 800-877-8339. The FRS is available 24 hours a day, 7 days a week, to leave a message or question with Ms. Endsley. You will receive a reply during normal business hours.

SUPPLEMENTARY INFORMATION: The 15-member RAC advises the Secretary of the Interior, through the BLM, on a variety of planning and management issues associated with public land management in Idaho. The meeting agenda will include updates from the Cottonwood and Coeur d'Alene Field Offices regarding recreation, forestry and fuels projects. Idaho Panhandle National Forest recreation managers will also present recommendations regarding potential new recreation fees and/or increased fee rates to the Recreation RAC. Additional agenda topics or changes to the agenda will be announced in local press releases. More information is available at: https://www.blm.gov/get-involved/resource-advisory-council/near-you/Idaho/coeurdalene-district-RAC

RAC meetings are open to the public. The public may present written comments to the RAC. Each formal RAC meeting will also have time allocated for hearing public comments. Depending on the number of persons wishing to comment and time available, the time for individual oral comments may be limited. Before including your address, phone number, email address, or other personal identifying information in your comment, you should be aware that your entire comment—including your personal identifying information—may be made publicly available at any time. While you can ask us in your comment to withhold your personal identifying information from public review, we cannot guarantee that we will be able to do.

Individuals who plan to attend and need special assistance, such as sign language interpretation or other reasonable accommodations, should contact the BLM as provided above.

Authority: 43 CFR 1784.4-2.

Linda Clark,
BLM Coeur d'Alene District Manager.

[FR Doc. 2018-06742 Filed 4-2-18; 8:45 am]

BILLING CODE 4310-AK-P